DEPARTMENT OF HOUSING AND URBAN DEVELOPMENT

[Docket No. FR-5125-N-05]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: INTERIOR: Ms. Linda Tribby, Acquisition & Property Management, Department of the Interior, 1849 C Street, NW., MS5512, Washington, DC 20240; (202) 513-0747; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: January 25, 2007.
Mark R. Johnston,
Deputy Assistant Secretary for Special Needs.

\

TITLE V, FEDERAL SURPLUS PROPERTY PROGRAM FEDERAL REGISTER REPORT FOR 02/02/2007

Suitable/Available Properties

Building

Alaska

Seward Shea Quonset

218 Third Avenue

Seward Co: Kenai Peninsula AK

Landholding Agency: Interior

Property Number: 61200710001

Status: Unutilized

Comments: 864 sq. ft., most recent use—storage, off-site use only

Seward Shea Shop

208 Third Avenue

Seward Co: Kenai Peninsula AK 99664

Landholding Agency: Interior

Property Number: 61200710002

Status: Unutilized

Comments: 1960 sq. ft., most recent use—machine shop/storage, off-site use only

Summary for Suitable/Available Properties

= Total number of Properties 2

Unsuitable Properties

Building

California

Bldg. 358

Sequoia National Park

Three Rivers CA 93271

Landholding Agency: Interior

Property Number: 61200710003

Status: Unutilized

Reasons: Extensive deterioration

Florida

Tract 105-07

Peter Heebner Home

New Smyrna Beach FL

Landholding Agency: Interior

Property Number: 61200710004

Status: Unutilized

Reasons: Extensive deterioration

Nevada

Units 501-521

Naval Air Station

Fallon NV

Landholding Agency: Navy

Property Number: 77200710017

Status: Excess

Reasons: Secured Area

Unsuitable Properties

Building

New York

Kussius House & Shed

Saratoga Natl Historic Park

Stillwater NY 12170

Landholding Agency: Interior

Property Number: 61200710005

Status: Unutilized

Reasons: Extensive deterioration

North Carolina

Trailer

81 Carl Sandburg Lane

Flat Rock Co: Henderson NC 28731

Landholding Agency: Interior

Property Number: 61200710006

Status: Unutilized

Reasons: Extensive deterioration

Puerto Rico

Bldgs. 59, C-48, B-6A

National Historic Site

San Juan Co: La Perla PR

Landholding Agency: Interior

Property Number: 61200710007

Status: Unutilized

Reasons: Extensive deterioration

Unsuitable Properties

Building

Virginia

Bldgs. 325, 321

Skyline Drive

Luray Co: Page VA 22835

Landholding Agency: Interior

Property Number: 61200710008

Status: Excess

Reasons: Extensive deterioration

Washington

Bldg. 134

North Cascades Natl Park

Stehekin Co: Chelan WA 98852

Landholding Agency: Interior

Property Number: 61200710009

Status: Unutilized

Reasons: Extensive deterioration

Summary for Unsuitable Properties

= Total number of Properties 11

Summary of all Properties

= Suitable/Available Properties

Suitable/Unavailable Properties

Suitable/To Be Excessed

** Suitable/ Undefined **

Total Suitable

Total Unsuitable

Total number of Properties

Properties Resubmitted

[FR Doc. E7-1456 Filed 2-1-07; 8:45 am]

BILLING CODE 4210-67-P